DEPARTMENT OF COMMERCE

Technology Administration

[Docket No.: 01613156-1156-01]

National Medal of Technology's Call for Nominations for the Year 2002

AGENCY: Technology Administration, U.S. Department of Commerce.

ACTION: Announcement of the National Medal of Technology's Call for Nominations for the year 2002.

SUMMARY: The Department of Commerce's Technology Administration is accepting nominations for its National Medal of Technology (NMT) award program for the year 2002.

Established by Congress in 1980, the President of the United States awards the National Medal of Technology annually to our Nation's leading innovators. If you know of a candidate who has made an outstanding contribution in technology, send for a nomination packet now.

DATES: The deadline for submission of an application is August 30, 2001.

ADDRESSES: The NMT Nomination Applications for the year 2002 can be obtained from the NMT program office, Technology Administration, U.S. Department of Commerce, 1401 Constitution Avenue, NW., Room 4226, Washington, DC 20230. The applications are also available by visiting the NMT website at www.ta.doc.gov/medal or by faxing the office at 202/501-8153. Please return the completed application to Mildred Porter, Director of the NMT program, at the address above.

FOR FURTHER INFORMATION CONTACT: Mildred Porter, Director, 202-482-5572.

SUPPLEMENTARY INFORMATION: The National Medal of Technology is the highest honor awarded by the President of the United States to America's leading innovators. Enacted by Congress in 1980, the Medal of Technology was first awarded in 1985. The Medal is given annually to individuals, teams, or companies for accomplishments in the innovation, development, commercialization, and management of technology, as evidenced by the establishment of new or significantly improved products, processes, or services.

The primary purpose of the National Medal of Technology is to recognize technological innovators who have made lasting contributions to enhancing America's competitiveness and standard of living. The Medal highlights the national importance of fostering technological innovation based upon solid science, resulting in commercially successful products and services.

The Selection Process

A distinguished, independent committee evaluates the merits of all candidates nominated through an open, competitive solicitation process. The U.S. Department of Commerce's Technology Administration agency is responsible for administrating the National Medal of Technology. Committee recommendations are forwarded to the Secretary of Commerce who then makes recommendations to the President for final decision.

The Awards Ceremony and Events

Each year the President in a joint White House ceremony with the National Medal of Science presents the National Medal of Technology awards. (The National Science Foundation administers the National Medal of Science award program.) The Medal laureates are celebrated at a dinner gala hosted by the National Science and Technology Medals Foundation along with other events planned around the White House ceremony. We invite you to look at our web site (www.ta.doc.gov/medal) for the historical archives, including photos and videos of the most recent laureates, and a listing of the 131 winners who have received this prestigious medal. The Medal winners serve as ambassadors to the next generation of technologists.

Dated: June 12, 2001.
Bruce Mehlman,
Assistant Secretary for Technology Policy, Technology Administration.

[FR Doc. 01-15831 Filed 6-25-01; 8:45 am]

BILLING CODE 3510-18-P